DEPARTMENT OF TRANSPORTATION

Office of the Secretary

Notice of Applications for Certificates of Public Convenience and Necessity and Foreign Air Carrier Permits Filed Under Subpart B (Formerly Subpart Q) During the Week Ending October 26, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1995-656.

Date Filed: October 22, 2001.

Due Date for Answers, Conforming Applications, or Motion to Modify Scope: November 13, 2001.

Description: Application of US Airways, Inc., pursuant to 49 U.S.C. section 41102 and 41108 and subpart B, requesting renewal of its certificate of public convenience and necessity for Route 737, which authorizes US Airways to engage in scheduled foreign air transportation of persons, property, and mail between Philadelphia, Pennsylvania, and Boston, Massachusetts, on the one hand, and Madrid, Barcelona, Malaga, and Palma de Mallorca, Spain, on the other.

Docket Number: OST-2001-10888.

Date Filed: October 24, 2001.

Due Date for Answers, Conforming Applications, or Motion to Modify Scope: November 14, 2001.

Description: Application of Lineas Aereas Azteca, S.A. de C.V, pursuant to 49 U.S.C. 41302 and subpart B, requesting a foreign air carrier permit to engage in scheduled foreign air transportation of persons, property, and mail on the following US-Mexico routes: Mexico City, Mexico to El Paso, Texas; Mexico City, Mexico to Albuquerque, New Mexico; and, Chihuahua, Mexico to Albuquerque, New Mexico. Also, Azteca is requesting authority to engage in charter foreign air transportation of persons, property, and mail between a point or points in Mexico, on the one hand, and a point or points in the United States, on the other hand; and, authority to operate charters, pursuant to 14 CFR part 212 of the Department's regulations.

Docket Number: OST-2001-10905.

Date Filed: October 25, 2001.

Due Date for Answers, Conforming Applications, or Motion to Modify Scope: November 15, 2001.

Description: Application of Air Canada, pursuant to 49 U.S.C. 41302 and subpart B, requesting an amendment to its foreign air carrier permit, to include authority to provide scheduled air service between points in Canada and points in Australasia via Honolulu, Hawaii.

Dorothy Y. Beard,
Federal Register Liaison.

[FR Doc. 01-28617 Filed 11-14-01; 8:45 am]

BILLING CODE 4910-62-P